FEDERAL MINE SAFETY AND HEALTH REVIEW COMMISSION

Sunshine Act Meeting

December 4, 2000.

TIME AND DATE: 2 p.m., Tuesday, December 12, 2000.

PLACE: Room 6005, 6th Floor, 1730 K Street, NW., Washington, DC.

STATUS: Open.

MATTERS TO BE CONSIDERED: The Commission will consider and act upon the following:

1. Northern Illinois Steel Supply Co., Docket No. LAKE 99-78-RM, etc. (Issues include whether Northern Illinois Steel Supply Company is an “operator” under section 3(d) of the Mine Act).

TIME AND DATE: The Commission meeting will commence following upon the conclusion of the Commission meeting to consider Northern Illinois Steel Supply Co., Docket No. LAKE 99-78-RM, etc., which commences at 2 p.m. on Tuesday, December 12, 2000.

PLACE: Room 6005, 6th Floor, 1730 K Street, NW., Washington DC.

STATUS: Closed [Pursuant to 5 U.S.C. § 55b(c)(10)].

MATTERS TO BE CONSIDERED: It was determined by a majority vote of the Commission that the Commission considered and act upon the following in closed session:

1. Disciplinary Proceeding, Docket No. D 2000-1.

TIME AND DATE: 10 a.m., Wednesday, December 13, 2000.

PLACE: Room 6005, 6th Floor, 1730 K Street, NW., Washington, DC.

STATUS: Open.

MATTERS TO BE CONSIDERED: The Commission will consider its general procedures for handling requests to vacate defaults and requests to reopen matters that have become final Commission orders under section 105(a) of the Mine Act.

Any person attending an open meeting who requires special accessibility features and/or auxiliary aids, such as sign language interpreters, must inform the Commission in advance of those needs. Subject to 29 CFR §§ 2706.150(a)(3) and 2706.160(d).

CONTACT PERSON FOR MORE INFORMATION: Jean Ellen (202) 653-5629/(202) 708-9300 for TDD Relay/1-800-877-8339 for toll free.

Jean H. Ellen,
Chief Docket Clerk.

[FR Doc. 00-31354 Filed 12-5-00; 3:57 pm]

BILLING CODE 6735-01-M